DEPARTMENT OF TRANSPORTATION

Federal Highway Administration

Environmental Impact Statement: Jefferson and Park Counties, CO

AGENCY: Federal Highway Administration (FHWA) and Department of Transportation (DOT).

ACTION: Notice to amend notice of intent.

SUMMARY: FHWA is issuing this notice to advise the public that an environmental assessment will be prepared for transportation improvements on US 285 in the Counties of Jefferson and Park, Colorado, rather than an environmental impact statement.

FOR FURTHER INFORMATION CONTACT: Scott Sands, Operations Engineer, FHWA, Colorado Division, 555 Zang Street, Room 250, Lakewood, CO, 80228, Telephone: (303) 969-6730 extension 362. Kamalesh (Kim) Patel, Project Manager, CDOT Region 1, 18500 East Colfax Avenue, Aurora, CO, 80011, Telephone: (303) 365-7373.

SUPPLEMENTARY INFORMATION: The FHWA, in cooperation with the Colorado Department of Transportation (CDOT), has begun the National Environmental Policy Act (NEPA) for transportation improvements along US 285 between Conifer and Bailey, Colorado. Scoping has been completed, alternatives have been developed and evaluated and environmental impact analysis has been done.

As a result of these NEPA studies, FHWA and CDOT have determined that this project will not result in a significant impact to the environment, thus an environmental impact statement will not be prepared.

Analysis of the following areas was conducted to reach this determination: Land use and zoning; social; economic; right-of-way; air quality; noise; water resources and quality; wetlands; floodplains; wild and scenic rivers; vegetation and wildlife; threatened, endangered and sensitive species; visual quality; historic preservation; hazardous waste; utilities; parks and recreation resources; farmland; relationship between local short-term uses of the environment and the maintenance and enhancement of long-term productivity; irreversible and irretrievable commitments of resources; and cumulative impacts.

Comments or questions concerning this proposed action and the environmental assessment should be directed to the FHWA or the Colorado Department of Transportation at the addresses provided above.

(Catalog of Federal Domestic Assistance Program Number 20.205, Highway Planning and Construction. The regulations implementing Executive Order 12372 regarding intergovernmental consultation on Federal programs and activities apply to this program.)

Issued on: December 18, 2003.
Ronald Speral,
Program Delivery Engineer.

[FR Doc. 03-31668 Filed 12-23-03; 8:45 am]

BILLING CODE 4910-22-M